DEPARTMENT OF THE INTERIOR

Bureau of Land Management

[NM-020-03-7122-DS-64GG]

New Mexico; Notice of Agency and Public Scoping Meetings for the Amendment to the Taos Resource Management Plan and Associated Environmental Impact Statement

AGENCY: Bureau of Land Management, Taos Field Office.

ACTION: Taos Resource Management Plan Amendment and Environmental Impact Statement Scoping Meeting schedule for December 2002.

SUMMARY: The following dates, times and locations have been identified for scoping meetings to discuss the Taos Resource Management Plan Amendment and Environmental Impact Statement. The Bureau of Land Management Taos Field Office is considering an amendment to the Taos Resource Management Plan (RMP) to provide for the possible disposal of approximately 160 acres of public land in Rio Arriba County, New Mexico. The land would be used by the North Central Solid Waste Authority for a new regional landfill. The public is invited to provide scoping comments on the issues that should be addressed in the plan amendment and environmental impact statement.

• Agency Scoping Meeting—Wednesday, December 4—at El Convento in Espanola, NM 2 p.m.-4 p.m.

• Public Scoping Meeting 1—Wednesday, December 4—at El Convento in Espanola, NM, 6 p.m.-8 p.m.

• Public Scoping Meeting 2—Thursday, December 5—at the Ojo Caliente Elementary School Cafeteria, Ojo Caliente, NM, 6 p.m.-8 p.m.

For meeting updates please call the BLM—Taos Field office at (505) 751-4709.

FOR FURTHER INFORMATION CONTACT: Lora Yonemoto, Realty Specialist, Bureau of Land Management, Taos Field Office, 226 Cruz Alta Rd., Taos, NM 87571, or call (505) 751-4709.

Dated: November 1, 2002.
Sam DesGeorges,
Assistant Field Office Manager.

[FR Doc. 02-28319 Filed 11-6-02; 8:45 am]

BILLING CODE 4310-FB-U